GOVERNMENT ACCOUNTABILITY OFFICE

Financial Management and Assurance; Standards for Internal Control in the Federal Government

AGENCY: U.S. Government Accountability Office.

ACTION: Notice of document availability.

SUMMARY: On June 27, 2024, the U.S. Government Accountability Office (GAO) issued an exposure draft of proposed revisions to “Standards for Internal Control in the Federal Government”, also known as the Green Book. To help ensure that the standards continue to meet the needs of the Federal community and the public it serves, the Comptroller General of the United States established the Advisory Council on Standards for Internal Control in the Federal Government (Green Book Advisory Council) to review GAO's proposed revisions to the standards and consider other necessary changes. We are requesting public comments on the proposed revisions in the 2024 exposure draft. All comments received from the public will be considered a matter of public record and will be posted on the GAO website.

DATES: Comments will be accepted through August 26, 2024.

ADDRESSES: A copy of the exposure draft (GAO-24-106889) can be obtained on the GAO internet page at https://www.gao.gov/greenbook.

FOR FURTHER INFORMATION CONTACT: Carrie Morrison, Assistant Director, Financial Management and Assurance, MorrisonC@gao.gov or (202) 512-4689.

SUPPLEMENTARY INFORMATION: The Green Book Advisory Council includes those knowledgeable in internal control drawn from Federal, State, and local government; the private sector; and academia. The exposure draft includes the Green Book Advisory Council's input regarding the proposed changes. Since the Green Book was last revised in 2014, events such as pandemics and cyber-attacks have highlighted the challenges management faces when addressing risks related to fraud, improper payments, information security, and the implementation of new or substantially changed programs, including emergency assistance programs. This proposed revision provides additional requirements, guidance, and resources for addressing these risk areas when designing, implementing, and operating an effective internal control system. Other changes are made to continue harmonization with the Committee of Sponsoring Organizations of the Treadway Commission's (COSO) Internal Control—Integrated Framework and make other modifications to clarify the intent of the requirements.

To ensure that your comments are considered by GAO and the Green Book Advisory Council in their deliberations, please submit them by August 26,2024. Please send your comments electronically to GreenBookComments@gao.gov.

Authority:

31 U.S.C. 3512(c), (d).

James R. Dalkin,
Director, Financial Management and Assurance, U.S. Government Accountability Office.

[FR Doc. 2024-13145 Filed 6-26-24; 8:45 am]

BILLING CODE 1610-02-P